DEPARTMENT OF THE INTERIOR

Fish and Wildlife Service

Information Collection To Be Submitted to the Office of Management and Budget (OMB) for Approval; Application, Permit, and Reporting for Federal Subsistence Hunt, Designated Hunter, and Fish/Shellfish Harvest in Alaska

AGENCY: Fish and Wildlife Service, Interior.

ACTION: Notice; request for comments.

SUMMARY: The Office of Management and Budget (OMB) regulations at 5 CFR part 1320, which implement provisions of the Paperwork Reduction Act of 1995 (44 U.S.C. 3501 et seq.), require that we provide an opportunity for interested members of the public and affected agencies to comment on our information collection and recordkeeping activities (see 5 CFR 1320.8(d)). We are notifying the public that we will submit a request to OMB to renew its approval of the collection of information for application, permit, and reporting for Federal Subsistence Hunt, Designated Hunter, and Fish/Shellfish Harvest in Alaska.

DATES: Comments must be submitted on or before March 17, 2003.

ADDRESSES: Send your comments to: Harvest Data Coordinator, Office of Subsistence Management, 3601 C Street, Suite 1030, Anchorage, Alaska 99503; and Service Information Collection Clearance Officer, U.S. Fish and Wildlife Service, MS 222-ARLSQ, 4401 N. Fairfax Dr., Arlington, VA 22203, or e-mail anissa_craghead@fws.gov.

FOR FURTHER INFORMATION CONTACT: To request a copy of the Information Collection request, explanatory information, and related forms, contact Anissa Craghead, Service Information Collection Clearance Officer, at 703/358-1730 or anissa_craghead@fws.gov; or Charles Miller, Office of Subsistence Management, at 907/786-3888.

SUPPLEMENTARY INFORMATION: We will submit a request to OMB to renew its approval of the collection of information associated with three forms used by the U.S. Fish and Wildlife Service. Those forms are discussed below.

Title: Federal Subsistence Hunt Application, Permit, and Report.

OMB Number: 1018-0075.

Service Form Number: 7FS-1.

Frequency: On occasion.

Description of Respondents: Federally defined rural residents.

Total Annual Burden Hours: The reporting burden is estimated to average .25 hours per response. The total annual burden is 1,225 hours.

Total Annual Responses: 4,900.

Abstract: The Alaska National Interest Lands Conservation Act (ANILCA) and Fish and Wildlife Service regulations at 50 CFR part 100, require that persons engaged in taking fish and wildlife in Alaska must report their take to the Federal Subsistence Board (the Board) and that rural residents who want to participate in special hunts must apply for and obtain a special permit to do so. The Board uses harvest information to evaluate subsistence harvest success; the effectiveness of season lengths, harvest quotas, and harvest restrictions; hunting patterns and practices; and hunter use. Then the Board uses this information, along with other information, to set future seasons and harvest limits for Federal subsistence resource users. These seasons and harvest limits are set in order to meet the needs of subsistence hunters without adversely impacting the health of existing wildlife populations.

The Federal Subsistence Hunt Application, Permit, and Report form allows Federal subsistence users to participate in special hunts that are not available to the general public but are provided for by Title VIII of ANILCA. The collection of information on this form is essential to the missions of the U.S. Fish and Wildlife Service and the Board. Without this information, the Service would be unable to set subsistence seasons and harvest limits to meet users' needs without adversely impacting the health of the animal population.

Title: Designated Hunter Permit Application, Permit, and Report.

OMB Number: 1018-0075.

Service Form Number(s): 7FS-2.

Frequency: On occasion.

Description of Respondents: Federally defined rural residents.

Total Annual Burden Hours: The reporting burden is estimated to average .25 hours per response. The total annual burden is 100 hours.

Total Annual Responses: 400.

Abstract: Under the authority of ANILCA and Fish and Wildlife Service regulations at 50 CFR part 100, the Board obtains harvest information from persons engaged in taking fish and wildlife in Alaska and uses that information to evaluate subsistence harvest success; the effectiveness of season lengths, harvest quotas, and harvest restrictions; hunting patterns and practices; and hunter use. Then the Board uses this information, along with other information, to set future seasons and harvest limits for Federal subsistence resource users. These seasons and harvest limits are set in order to meet the needs of subsistence hunters without adversely impacting the health of existing wildlife populations.

The Designated Hunter Application, Permit, and Report form allows qualified subsistence users to harvest fish or wildlife for others and report the harvest of multiple animals by a single hunter who is acting for others. The collection of information on this form is essential to the missions of the U.S. Fish and Wildlife Service and the Board. Without this information, the Service would be unable to set subsistence seasons and harvest limits to meet users' needs without adversely impacting the health of the animal population.

Title: Federal Subsistence Fish/Shellfish Harvest/Designated Harvester Application, Permit, and Report.

OMB Number: 1018-0075.

Service Form Number(s): 7FS-3.

Frequency: On occasion.

Description of Respondents: Federally defined rural residents.

Total Annual Burden Hours: The reporting burden is estimated to average .5 hours per response. The total annual burden is 62.5 hours.

Total Annual Responses: 125.

Abstract: ANILCA allows the taking of fish and wildlife on public lands in Alaska for subsistence use, if users possess and comply with the provisions of any pertinent permit, harvest tickets, or tags required by the State or Federal government. All Alaskans who are residents of rural areas or communities are eligible to participate in subsistence taking of fish and shellfish under the regulations at 50 CFR part 100. The Board needs information on the fisherman, qualified subsistence users fished for (i.e., users who have designated another person to harvest for them), the fish or shellfish harvested, and the location of harvest in order to make recommendations on subsistence use. Once the Board evaluates harvest information, the Board uses that information, along with other information, to set future seasons and harvest limits for Federal subsistence resource users. These seasons and harvest limits are set in order to meet the needs of subsistence fisherman without adversely impacting the health of existing fish and shellfish populations.

The Federal Subsistence Fish/Shellfish Harvest/Designated Harvester Application, Permit, and Report form allows qualified subsistence users to harvest fish and shellfish for themselves or for others. This form also allows Federal subsistence users to participate in special fishing opportunities that are not available to the general public but are provided for by Title VIII of ANILCA. The collection of information on this form is essential to the missions of the U.S. Fish and Wildlife Service and the Board. Without this information, the Service would be unable to set subsistence seasons and harvest limits to meet users' needs without adversely impacting the health of the fish and shellfish populations.

An agency may not conduct or sponsor, and a person is not required to respond to, a collection of information unless it displays a currently valid OMB control number. We are requesting a 3-year term of approval of this information collection. We invite comments concerning this renewal on: (1) Whether the collection of information is necessary for the proper performance of our functions, including whether the information will have practical utility; (2) the accuracy of our estimate of burden; (3) ways to enhance the quality, utility, and clarity of the information to be collected; and (4) ways to minimize the burden of the collection of information on respondents.

Dated: January 13, 2003.
Anissa Craghead, Information Collection Officer, Fish and Wildlife Service.

[FR Doc. 03-943 Filed 1-15-03; 8:45 am]

BILLING CODE 4310-55-P